DEPARTMENT OF COMMERCE

International Trade Administration

A-570-890

Notice of Correction to the Final Results of Changed Circumstances Review and Determination to Revoke Order in Part: Wooden Bedroom Furniture from the People's Republic of China

AGENCY: Import Administration, International Trade Administration, Department of Commerce.

ACTION: Correction to final results of changed circumstances review and determination to revoke order in part.

EFFECTIVE DATE: February 25, 2009.

FOR FURTHER INFORMATION CONTACT: Paul Stolz or Robert Bolling, Import Administration, International Trade Administration, U.S. Department of Commerce, 14th Street and Constitution Avenue, NW, Washington DC 20230; telephone: (202) 482-4474 and (202) 482-3434, respectively.

BACKGROUND:

On February 25, 2009, the Department of Commerce (the Department) published in the Federal Register the final results of changed circumstances review and determination to revoke order in part of wooden bedroom furniture from the People's Republic of China (PRC). See Wooden Bedroom Furniture from the People's Republic of China: Final Results of Changed Circumstances Review and Determination to Revoke Order in Part, 74 FR 8506 (February 25, 2009) (“Final CCR”). The Department has discovered that the dimensions are incorrectly listed for item (2) of the exclusion as identified in the “Scope of Changed Circumstances Review” of the Final CCR.

We are correcting the Final CCR to identify the appropriate dimensions to item (2) of the scope as follows: (2) have dimensions within 16 inches to 27 inches in height, 15 inches to 18 inches in depth, and 21 inches to 30 inches in width. The remaining scope descriptions in the Final CCR are correct.

This correction to the Final CCR is issued and published in accordance with sections 751(b), (d) and 782(h) of the Tariff Act of 1930, as amended, and 19 CFR 351.216(e) and 351.222(g).

Dated: March 13, 2009.
Ronald K. Lorentzen,
Acting Assistant Secretary for Import Administration.

[FR Doc. E9-6338 Filed 3-23-09; 8:45 am]

BILLING CODE 3510-DS-S